DEPARTMENT OF HOMELAND SECURITY

Federal Emergency Management Agency

44 CFR Part 64

[Docket ID FEMA-2010-0003; Internal Agency Docket No. FEMA-8115]

Suspension of Community Eligibility

Correction

In rule document 2010-2487 beginning on page 5890 in the issue of February 5, 2010 make the following corrections:

§64.6 [Corrected]

1. On page 5891, in §64.6, in the table, under the “Current effective map date” heading, in the first entry, “Apr. 17, 2010” should read “Feb. 17, 2010”.

2. On the same page, in the same section, in the same table, under the “Date certain federal assistance no longer available in SFHAs” heading, in the first entry, “Apr. 17, 2010” should read “Feb. 17, 2010”.

[FR Doc. C1-2010-2487 Filed 4-27-10; 8:45 am]

BILLING CODE 1505-01-D